DEPARTMENT OF COMMERCE

Bureau of Industry and Security

Emerging Technology and Research Advisory Committee; Notice of Open Meeting

The Emerging Technology and Research Advisory Committee (ETRAC) will meet on June 11, 2009, 8:30 a.m., Room 3884, and on June 12, 2009, 8:30 a.m., Room 3884, at the Herbert C. Hoover Building, 14th Street between Pennsylvania and Constitution Avenues, NW., Washington, DC. The Committee advises the Office of the Assistant Secretary for Export Administration on emerging technology and research activities, including those related to deemed exports.

Thursday, June 11

Public Session

1. Welcome and Introduction.

2. Export Controls.

3. Deemed Exports Data Set.

4. Deemed Export Control Methodology Model Options.

5. Review Status.

Friday, June 12

Public Session

1. Deemed Export Control Methodology Model Options.

The meeting will be accessible via teleconference to 20 participants on a first come, first serve basis. To join the conference, submit inquiries to Ms. Yvette Springer at Yspringer@bis.doc.gov—no later than June 4, 2009.

A limited number of seats will be available for the meeting. Reservations are not accepted. To the extent that time permits, members of the public may present oral statements to the Committee. The public may submit written statements at any time before or after the meeting. However, to facilitate the distribution of public presentation materials to the Committee members, the Committee suggests that presenters forward the public presentation materials prior to the meeting to Ms. Springer via e-mail.

For more information, call Yvette Springer at (202) 482-2813.

Dated: May 20, 2009.
Teresa Telesco,
Assistant Committee Liaison Officer.

[FR Doc. E9-12172 Filed 5-22-09; 8:45 am]

BILLING CODE 3510-JT-P